SMALL BUSINESS ADMINISTRATION

Reporting and Recordkeeping Requirements Under OMB Review

AGENCY: Small Business Administration.

ACTION: Notice of 30 day Reporting Requirements Submitted for OMB Review.

SUMMARY: Under the provisions of the Paperwork Reduction Act (44 U.S.C. Chapter 35), agencies are required to submit proposed reporting and recordkeeping requirements to OMB for review and approval, and to publish a notice in the Federal Register notifying the public that the agency has made such a submission.

DATES: Submit comments on or before December 2, 2013. If you intend to comment but cannot prepare comments promptly, please advise the OMB Reviewer and the Agency Clearance Officer before the deadline.

Copies: Request for clearance (OMB 83-1), supporting statement, and other documents submitted to OMB for review may be obtained from the Agency Clearance Officer.

ADDRESSES: Address all comments concerning this notice to: Agency Clearance Officer, Curtis Rich, Small Business Administration, 409 3rd Street SW., 5th Floor, Washington, DC 20416; and OMB Reviewer, Office of Information and Regulatory Affairs, Office of Management and Budget, New Executive Office Building, Washington, DC 20503.

FOR FURTHER INFORMATION CONTACT: Curtis Rich, Agency Clearance Officer, (202) 205-7030 curtis.rich@sba.gov.

Abstract: SBA Forms 1405 and 1405A are used by Small Business Administration (SBA) examiners as part of their examination of licensed small business investment companies (SBICs). This information collection provides independent third party confirmation of an SBIC's representations concerning its owners, and helps SBA to evaluate the SBIC's compliance with applicable laws and regulations concerning capital requirements.

SUPPLEMENTARY INFORMATION:

Title: Stockholders Confirmation (Corporation): Ownership Confirmation (Partnership).

Frequency: On Occasion.

SBA Form Number's: 1405, 1405A.

Description of Respondents: Investment Companies.

Responses: 500.

Annual Burden: 500.

Curtis Rich,
Management Analyst.

[FR Doc. 2013-26045 Filed 10-31-13; 8:45 am]

BILLING CODE P